DEPARTMENT OF LABOR

Office of the Secretary

Women in Apprenticeship and Nontraditional Occupations (WANTO) DOL FY-2001 Budget, Training and Employment Services (TES) 1601 77174

AGENCY: Women's Bureau, Department of Labor.

ACTION: Notice of availability of funds and solicitation for grant applications (SGA 01-03).

Note: This notice contains all of the information needed to apply for grant funding. Grant proposals that are not completed as directed will be judged non-responsive and will not be evaluated.

SUMMARY: The Women's Bureau, U.S. Department of Labor (DOL), announces the 2001 Solicitation for Grant Applications (SGA) authorized under the Women in Apprenticeship and Nontraditional Occupations (WANTO) Act of 1992. The purpose of this program is to assist employers and labor unions in the placement and retention of women in apprenticeship and nontraditional occupations. To that end, WANTO grant funds are disbursed to eligible community-based organizations which, in turn, provide employers and labor unions with technical assistance geared towards the successful placement and retention of women in apprenticeship and nontraditional occupations.

DATES: One signed original, complete grant application plus five copies of the Technical Proposal and two copies of the Cost Proposal must be submitted by 5 p.m. EST, July 16, 2001. Hand-delivered applications must be received by that time. Applications transmitted by facsimile, e-mail, or telegraph will not be considered.

An application received after July 16, 2001, will not be considered unless:

1. It was sent by registered or certified mail not later than July 9, 2001;

2. It is determined by the Government that the late receipt was due solely to mishandling by the Government after receipt at the U.S. Department of Labor at the address listed under ADDRESSES; or

3. It was sent by U.S. Postal Service Express Mail Next Day Service-Post Office to Addressee, not later than 5 p.m. EST on July 12, 2001.

The only acceptable evidence to establish the date of mailing of a late application sent by registered or certified mail is the U.S. Postal Service postmark on the envelope or wrapper and on the original receipt from the U.S. Postal Service. If the postmark is not legible, an application received after the specified time and date will be processed as if mailed late. “Postmark” means a printed, stamped, or otherwise placed impression (not a postage meter machine impression) that is readily identifiable without further action as having been applied and affixed by an employee of the U.S. Postal Service on the date of mailing. Therefore, applicants shall request that the postal clerk place a legible hand cancellation bull's-eye postmark on both the receipt and the wrapper or envelope.

The only acceptable evidence to establish the date of mailing of a late application sent by U.S. Postal Service Mail Next Day Service-Post Office to Addressee is the date entered by the post office receiving clerk on the “Express Mail Next Day Service-Post Office to Addressee” label and the postmark on the envelope or wrapper and on the original receipt from the U.S. Postal Service. “Postmark” has the same meaning as defined in the preceding paragraph. Therefore, applicants shall request that the postal clerk place a legible hand cancellation bull's-eye postmark on both the receipt and the envelope or wrapper.

The only acceptable evidence to establish the time of receipt at the U.S. Department of Labor is the date/time stamp of the Office of Procurement Services on the application wrapper or other documentary evidence of receipt maintained by that office.

ADDRESSES: Applications must be mailed or hand-delivered to: U.S. Department of Labor, Office of Procurement Services, Attention: Grant Officer, Reference SGA 01-03, Room N-5416, 200 Constitution Avenue, NW., Washington, DC 20210.

FOR FURTHER INFORMATION CONTACT: Questions concerning this SGA may be sent to Cassandra Willis, at the following Internet address: willis-cassandra@dol.gov. Applications will not be mailed. The Federal Register may be obtained from your nearest government office or library. In addition, a copy of this notice and the application requirements may be downloaded from the Women's Bureau's Website at www.dol.gov/wb.

SUPPLEMENTARY INFORMATION:

Part I. Background

A. Authority and Funding

The Women in Apprenticeship and Nontraditional Occupations Act of 1992 (WANTO)(29 U.S.C. 2501 et seq.) authorizes DOL to disburse technical assistance grants. The WANTO grants for Fiscal Year (FY) 2001 are funded by DOL FY 2001 Budget: Training and Employment Services (TES)1610174.

The Women's Bureau (WB) co-administers the WANTO program with the DOL Office of Apprenticeship Training, Employer & Labor Services (ATELS). WB has responsibility for implementing the grant process.

B. Purpose

This grant program is designed to assist employers and labor unions (E/LU) in the placement and retention of women in specific sections of the workforce. It is envisioned that the program will promote increased participation by women in apprenticeship and nontraditional occupations (A/NTO). Therefore, WANTO grant funds are distributed to community based organizations (CBO), which provide technical assistance to E/LU with the goal of placing and retaining women in these occupations. DOL has found that placement and retention of women in A/NTO pose significant challenges. Those challenges are especially acute in fields requiring high technology skills, such as those related to computer-based information technology, for example, telecommunications, utilities, manufacturing, transportation, and general services.

C. Grant Awards

The WB is soliciting proposals on a competitive basis for the WANTO program. WB anticipates that each grantee will receive between $50,000 and $100,000 in funds to conduct innovative projects that comply with the goals set forth in WANTO and in this SGA. The period of performance begins September 30, 2001, and ends on September 29, 2002. The initial performance period may be extended once, for up to three months, at no additional cost to DOL, so that a grantee can finish its final reports. Each application shall clearly state the applicant's intention to begin performance no later than October 1, 2001.

Part II. Application Process

A. Eligible Applicants—Community-Based Organizations

DOL will award grants through a competitive process which identifies the best Community-Based Organizations (CBO) applicants. Applicants shall provide evidence, where available, demonstrating their ability to connect women to apprenticeship and nontraditional occupations. Applicants shall also document any experience in enabling women and/or businesses to contact ATELS field offices for assistance and/or for information pertaining to apprenticeship training/placement. A CBO must not be classified under the IRS Tax Code as a 501(c)(4) entity nor be a public body such as a governmental body, public school, college, or hospital. All proposals must document that these eligibility requirements have been, and will continue to be, satisfied.

A consortium of CBOs may apply for a grant provided they include a copy of the consortium agreement and identify the entity/entities that will administer the grant.

B. Application Contents

The proposals must consist of the following information:

1. Table of Contents, listing all of the report sections.

2. A Two-Page Abstract, giving a clear summary of the technical proposal.

3. Eligibility Documentation, as set forth in Part II, Section A, of this notice.

4. Statement of Work, stated in a clear and concise manner. Explain how the Technical Assistance (TA) project:

a. Complies With Allowable Activities

Grant funds may be used to provide a broad range of TA to assist E/LU in recruiting and retaining women in A/NTO. Examples of allowable TA are: establishing or improving upon workplace assessment tools and surveys; the development of strategic plans for changes in the workplace and in work practices that support women; and providing E/LU that have pledged employment and/or sponsored apprenticeship opportunities for women with linkages to pre-apprenticeship programs. The TA services may, in part, encompass supportive services (such as setting up support groups, assisting with child-care, tools, uniforms, and transportation) that help women enter and remain in A/NTO. However, the primary emphasis shall be on TA that helps E/LU increase the number of women employed in A/NTO. For additional examples of allowable project activities, see section 4 of the WANTO Act (29 U.S.C. 2503).

b. Develops 10 or More New Relationships With E/LU

Grantees need to develop relationships with E/LU in order to provide the E/LU with technical assistance. Without these relationships, a grantee's efforts to place women in A/NTO are unlikely to be productive. Expanding the availability of TA can dramatically increase women's awareness of and participation in A/NTO.

c. Builds Upon the CBO's Established Working Relationships With E/LU

Applicants should show how their existing linkages with E/LU have been and can continue to be effective in moving working women from NTO-related entry level employment into registered apprenticeship or other higher-skilled NTO employment, including employment that requires high-technology skills.

5. Documentation of the following:

A. Established and developing working relationships with E/LU;

b. Successful experience in administering a program that provides TA, particularly information and support, to E/LU for placing women in A/NTO. Such TA should be the major component of the CBO's activities. Activities can also include outreach, orientation, mentoring, support groups, networks, workplace consultation, employee and supervisory workshops, seminars, and other workplace-specific strategic planning to increase the participation of women in A/NTO;

c. Leadership in promoting economic self-sufficiency for women and (where applicable) in mentoring other CBO participating in the WANTO program; and

d. Names of ten or more targeted E/LU to whom the CBO plans to provide TA, along with the information required by Part II, Section A, of this notice.

6. The number of women to be placed into A/NTO;

7. A support services plan for women when the TA results in women being placed into A/NTO. These plans should include cooperative E/LU programs and community-based services, as well as those available at the workplace;

8. A description of any leveraging or co-funding anticipated for the accomplishment of the proposed project;

9. The inclusion of any activities that would encourage and promote the continuation or expansion of grant activities beyond the grant period; and

10. The inclusion of a management plan and job descriptions.

a. The management plan must include: the CBO's organizational chart, and where applicable, a narrative differentiating among the CBO's, the consultant's, and the sub-contractor's staffs and the names and full resumes of any proposed staff.

b. The job descriptions must identify: all key tasks; the hours required for the completion of such tasks; the person(s) responsible for completing each task, including sub-contractors and consultants; and the month-to-month time-line charting the tasks.

11. A listing of all items for which grant funds will be expended. Do not include any cost information, only expenditure items.

12. Copies of the CBO's budget and major funding sources for the past three (3) years, including foundation and government funds, as well as other types of funding.

Part III. Format of the Technical Proposal

The grant technical proposal text is limited to twenty (20) single-sided, double-spaced, 10 to 12 pitch, numbered “8½ x 11” typed pages (not including attachments).

Part IV. Application Process and Guidelines

Grant application packages must contain the following:

A. A Technical Proposal

Applicants must submit one (1) original and five (5) copies of their technical proposal, with original signatures.

B. A Cost Proposal

The Cost Proposal is a physically separate document and must not be included within the twenty-page limit of the technical proposal. The Cost Proposal must include the following:

1. A Standard Form (SF) 424, “Application for Federal Assistance.” All copies of the SF 424 must have original signatures of the legal entity applying for grant funding. Applicants shall indicate on the SF 424 the organization's IRS status.

The Catalogue of Federal Domestic Assistance number for this program is 17.700, which should be entered on the SF 424, block 10.

2. A certification prepared within the last six (6) months, attesting to the adequacy of the entity's fiscal management and accounting systems to account for and safeguard Federal funds properly. The certification should be obtained as follows:

a. For incorporated organizations, a certification from a Certified Public Accountant or

b. For other applicants, their employer's identification number (EIN) issued by the IRS;

3. Budget Information Form 424A with a narrative description of each line item.

4. A copy of the most current Indirect Cost Rate Agreement issued by the cognizant federal agency, if applicable.

5. Applications from a consortium of organizations also must include a copy of the consortium agreement and must identify the consortium that will act as the administrative entity for the project. No member of a consortium shall make a separate application under this grant program. In addition, the agreement must specify the consortium's arrangements for handling the administrative and financial responsibilities for the program.

6. The applicants must include the Assurances and Certifications Signature Page.

Potential applicants who do not have the current version of the standard grant forms listed above can download them from the following OMB Website address: www.whitehouse.gov/OMB/grants/forms.html.

To be considered responsive to this SGA, each application must consist of, and follow the order of, the sections listed in Part II, Section B (Application Process, Application Contents), of this solicitation. The application must also include information that the applicant believes will address the selection criteria identified in Part V. ANY PROPOSAL THAT DOES NOT CONFORM TO THESE STANDARDS SHALL BE DEEMED NON-RESPONSIVE TO THIS SGA AND WILL NOT BE EVALUATED.

Part V. Evaluation Criteria and Selection

Applicants are advised that selection for a grant award will be made after careful evaluation of technical proposals by a review panel. Each panelist will evaluate applications against the various criteria on the basis of 100 points available. The scores will then serve as the primary basis to select applications for a potential award. The WB retains the discretion to request that grant applicants clarify statements made in their proposals.

A. Technical Evaluation Criteria/Points

1. Organizational Overview

Applicants must demonstrate their experience with the movement of women to apprenticeship and nontraditional occupations, as well as their capabilities and qualifications. Information submitted should include qualifications of the staff through the submission of pertinent materials such as resumes and organizational charts. In addition, applicants must explain how the proposed management and staffing plans will be responsive to the needs of women—up to 40

2. Established E/LU Linkages

Applicants must demonstrate commitments and/or potential for five (5) or more new working relationships with E/LU and demonstrate experience or potential for working with employed women to move them into apprenticeship or NTO—up to 20

3. Scope of WANTO Project and Projected Outcomes

Applicants must document their workplace assessment and technical assistance strategies for upgrading the skills of women in NTO and “focus industries” and for promoting changes in the workplace culture and in work practices that lead to increased numbers of women in A/NTO. Such information should include an applicant's support services plan; budget; listing of cost items; numbers of women to be placed; proposed A/NTO outcomes; leverage and continuance TA—up to 40

4. Bonus Points

Bonus points will be awarded, as follows, for projects that demonstrate their experience or indicate their plans to:

a. Provide opportunities for women to be placed into A/NTO pertaining to the high-technology fields—up to 10

b. Provide services for disabled women to be placed into A/NTO—up to 10

Overall, the Department will review grant proposals to determine whether CBO applicants: (a) Demonstrate experience preparing women to gain employment in apprenticeable occupations or other nontraditional occupations; (b) demonstrate experience working with the business community in preparing women to enter apprenticeable occupations or other nontraditional occupations; (c) have tradeswomen or women in nontraditional occupations as active members of their organizations, as either employed staff or as board members; and (d) have experience delivering TA.

B. Cost Criteria

Proposals will be ranked, based on their costs, in relation to other proposals submitted in response to this SGA.

C. Total Score

When ranking the proposals for the purposes of making selections for awards, the technical quality of the proposals will be weighted three (3) times the estimated price. Proposals received will be evaluated by a review panel based on the criteria described in this SGA under Technical Evaluation Criteria 1 and 2. The panel's recommendations will be advisory, and final awards will be made based on the best interests of the Government, including, but not limited to, such factors as technical quality, geographic balance, and occupational and/or industrial impact.

The submission of a previous proposal for a WANTO grant from any prior year does not guarantee an award under this solicitation. A final or the most recent technical report for WANTO programs should be submitted with this application. Although the Government reserves the right to award on the basis of the applicants' initial submissions, the Government may establish a competitive range or technically acceptable range based upon proposal evaluation for the purpose of selecting qualified applicants. The panel's conclusions are advisory in nature and not binding on the Grant Officer. The Government reserves the right to ask for clarification or hold discussions, but is not obligated to do so. The Grant Officer's determination for award under this SGA 01-03 is the final agency action.

Part VI. Deliverables

This section is provided only so that grantees may more accurately estimate the staffing budgetary requirements when preparing their proposal. Applicants are to exclude from their cost proposal the cost of any requested travel to Washington, DC.

A. Post Grant Award Conference

No later than eight (8) weeks after an award, the grantees and partners shall meet with the WB and the ATELS at the Post-Award Conference to discuss the project, related components and TA; time-lines; technical assistance outcomes; assessment for comment; and final approval. The grantees and partners and the Department will discuss and make decisions on the following program activities:

1. The proposed TA commitments for employment, registered apprenticeship, and related skilled nontraditional occupation activities and responsibilities; the number of targeted partnerships with employers and labor unions; and the number of women who will be served.

2. The methodology the proposed partnership will use to support/change management and employee attitudes to promote female workers in A/NTO.

3. The types of systemic change anticipated by the TA strategies that will be incorporated into ongoing employer recruitment, hiring, training, and promotion of women in A/NTO.

4. The occupational, industrial, and geographical impact anticipated.

5. The supportive services to be provided to employers and women after successful placement into A/NTO.

6. The plan for the development and maintenance of a relationship with the State level of the ATELS or the corresponding State Apprenticeship Council.

The WB and ATELS will provide further input orally or in writing, if necessary, within ten (10) working days after the Post-Award Conference.

B. Grant Plan of Action

No later than ten (10) weeks after an award, the grantees and the WB will confirm the “plan of action” and detailed time-line for program implementation.

C. Grant Implementation

No later than twelve (12) weeks after an award, the grantee(s) shall have begun providing E/LU with TA to recruit, select, train, place, retain, and otherwise prepare women for A/NTO, with progress to be measured in terms of employment growth and rising earnings.

D. Quarterly Reports

1. No later than sixteen (16) weeks after an award, the first quarterly progress report of work done under this grant must be submitted. Thereafter, quarterly reports will be due twenty (20) working days after the end of each of the remaining quarters.

2. Quarterly progress reports must describe:

a. The overall progress achieved during the reporting period, as measured by the number of E/LU provided with TA, as well as by the number of women trained (on and off the workplace) and placed in A/NTO;

b. Any linkages between pre-apprenticeship programs with sponsored apprenticeship programs, giving the name and address of each workplace/company involved, the person(s) responsible for the programs, as well as the number of women affected by or participating in the programs;

c. The number of E/LU receiving TA, giving the E/LU name, address, number of employees at the workplace (including the percentage of women employees), as well as brief profiles of the E/LU;

d. Any systemic workplace and policy changes, whether actual or in process, including the hiring and promotion of women already in the workplace or in career ladders or other training activities;

e. Any public presentations given by the grantee;

f. Any media articles or appearances;

g. Publications disseminated; and

h. Publications developed.

i. Any problems which may impede the performance of the grant and the proposed corrective action.

j. The work to be performed during the next reporting period.

3. In addition, between scheduled reporting dates, the grantee(s) shall immediately inform the Grant Officer's Technical Representative of significant developments affecting the ability to accomplish the work.

E. Final Report

1. No later than sixty-four (64) weeks after an award, the grantee(s) shall submit two (2) copies of the draft Final Report, an integrated draft analysis of the process, and results of the technical assistance activities during the year. The WB and the ATELS will provide written comments on the draft Report within twenty (20) working days, if substantive problems are identified. The grantee's response to these comments shall be incorporated into the Final Report.

2. The Final Report shall cover findings, final performance data, outcome results and assessment, and employer or labor organization plans for follow-up of participants.

3. No later than sixty-four (64) weeks after an award, the grantee(s) shall submit:

a. Two (2) copies of the camera-ready Final Report, bound in a professional manner, and not a collection of loose leaf sheets, and

b. An Executive Summary of the findings and recommendations must be included in the Final Report, separately or combined with the Final Report. These materials must be paid for with grant funds.

Part VII. Grant Requirements

A. Administrative Provisions

The grant awarded under this SGA shall be subject to the following administrative standards and provisions:

29 CFR Part 96—Federal Standards for Audit of Federally Funded Grants, Contracts, and Agreements.

29 CFR Part 95—Uniform Administrative Requirements for Grants and Cooperative Agreements with Institutions of Higher Education, etc.

B. Allowable Costs.

The WB shall determine what constitutes allowable costs in accordance with OMB Circular A-122, Nonprofit Organizations.

Part VIII. Definitions

The following terms are defined for the convenience of prospective applicants:

Nontraditional Occupations (NTO) are those where women account for less than 25 percent of all persons employed in a single occupational group.

Pre-Apprenticeship Programs are those which prepare individuals for occupational skills training or entry-level employment in NTO. The curriculum includes pre-vocational instruction in identification and use of tools, blueprint reading, basic shop skills, and safety procedures, as well as math skills and physical conditioning.

Apprenticeship is a formal employment relationship designed to promote skill training and learning on the job. “Hands on” learning takes place in conjunction with related theoretical instruction (often in a classroom setting). An apprentice who successfully completes an ATELS-registered program, which usually requires 3 to 5 years, is awarded a certificate of completion.

Employers, or groups of employers, and unions design, organize, manage, and finance apprenticeship programs under the standards developed and registered with ATELS or ATELS-recognized State Apprenticeship Agencies. They also select apprentices who are trained to meet certain pre-determined occupational standards.

Community-Based Organizations (CBO) are private non-profit organizations, which may be faith-based, which are representative of communities or significant segments of communities and which have demonstrated experience administering programs that train women for A/NTO.

Signed at Washington, DC on June 8, 2001.
Lawrence J. Kuss,
Grant Officer.

Appendix A. Application for Federal Assistance, Form SF 424

Appendix B. Budget Information Sheet, Form SF 424A

Appendix C. Assurances and Certifications Signature Page

BILLING CODE 4510-23-P

[FR Doc. 01-15067 Filed 6-13-01; 8:45 am]

BILLING CODE 4510-23-C